ENVIRONMENTAL PROTECTION AGENCY

40 CFR Part 258

[EPA-R05-RCRA-2019-0319; FRL-9997-83-Region 5]

Determination of Adequacy of Wisconsin's Research, Development and Demonstration Permit Provisions for Municipal Solid Waste Landfills

AGENCY: Environmental Protection Agency (EPA).

ACTION: Notification of approval.

SUMMARY: On May 10, 2016, EPA revised the maximum permit term for Municipal Solid Waste Landfills (MSWLF) units operating under Research, Development and Demonstration (RD&D) permits. The revision allows states to increase the number of RD&D permit renewals issued to six, 3-year permit renewals, for a total permit term of up to 21 years. On May 6, 2019, Wisconsin Department of Natural Resources (WDNR) submitted a notification to EPA Region 5 seeking Federal approval of its revised RD&D requirements per the procedures in Requirements for State Permit Program Determination of Adequacy. Subject to public review and comment, this document approves Wisconsin's revised RD&D permit requirements.

DATES: This determination of adequacy of the RD&D permit program for Wisconsin are effective October 15, 2019 unless adverse comments are received. If adverse comments are received, EPA will review those comments and publish another Federal Register document responding to those comments and either affirm or revise EPA's initial decision. Comments on this determination of adequacy must be received on or before October 15, 2019.

ADDRESSES: Submit your comments, identified by Docket ID No. EPA-R05-RCRA-2019-0319, by one of the following methods:

• www.regulations.gov: Follow the on-line instructions for submitting comments.

• Email: schilf.julie@epa.gov.

• Mail: Julie Schilf, U.S. EPA Region 5, Land, Chemicals and Redevelopment Division, 77 West Jackson Boulevard LM-16J, Chicago, Illinois 60604.

Instructions: Identify your comments as relating to Docket ID No. EPA—R05-RCRA-2019-0319. EPA's policy is that all comments received will be included in the public docket without change and may be available online at www.regulations.gov, including any personal information provided, unless the comment includes information claimed to be Confidential Business Information or claimed to be other information whose disclosure is restricted by statute.

FOR FURTHER INFORMATION, CONTACT: Julie Schilf, U.S. EPA Region 5, Land, Chemicals and Redevelopment Division, 77 West Jackson Boulevard LM-16J, Chicago, Illinois 60604, (312) 886-0407, schilf.julie@epa.gov.

SUPPLEMENTARY INFORMATION:

A. Background

On March 22, 2004, EPA issued a final rule amending the MSWLF criteria in 40 CFR 258 to allow for RD&D permits (69 FR 13242). This rule allows for variances from specified criteria for a limited period of time, to be implemented through state-issued RD&D permits. RD&D permits are available only in states with approved MSWLF permit programs that have been modified to incorporate RD&D permit authority. On May 10, 2016, EPA revised the maximum permit term for MSWLF units operating under RD&D permits (81 FR 28720). The revision allows states to increase the number of RD&D permit renewals issued to six, 3-year permit renewals, for a total permit term of up to 21 years (40 CFR 258.4). While states are not required to incorporate this new provision, those states interested in providing RD&D permits must seek approval from EPA before issuing such permits. On January 10, 2006, Wisconsin received EPA approval of its RD&D permit program (71 FR 3293). On May 6, 2019, WDNR submitted a notification to EPA Region 5 seeking Federal approval of its revised RD&D requirements per the procedures in 40 CFR 239.12. Wisconsin's revised RD&D provisions can be found in Chapter NR 514 of the Wisconsin Administrative Code, as amended by the Wisconsin Natural Resources Board WA-06-18.

B. Decision

EPA has made a determination that the Wisconsin RD&D permit provisions in Chapter NR 514 of the Wisconsin Administrative Code, as amended, comply with the Federal criteria set forth in 40 CFR 258.4.

Authority: This action is issued under the authority of Sections 2002, 4005 and 4010(c) of the Solid Waste Disposal Act, as amended, 40 U.S.C. 6912, 6945 and 6949(a).

Dated: July 17, 2019.
Cathy Stepp,
Regional Administrator, Region 5.

[FR Doc. 2019-17123 Filed 8-12-19; 8:45 am]

BILLING CODE 6560-50-P